DEPARTMENT OF TRANSPORTATION

Federal Aviation Administration

14 CFR Part 39

[Docket No. FAA-2018-0789; Product Identifier 2018-NM-120-AD; Amendment 39-19395; AD 2018-18-16]

RIN 2120-AA64

Airworthiness Directives; Airbus SAS Airplanes

AGENCY: Federal Aviation Administration (FAA), Department of Transportation (DOT).

ACTION: Final rule; request for comments.

SUMMARY: We are superseding Airworthiness Directive (AD) 2018-12-08, which applied to certain Airbus SAS Model A330-200 and -300 series airplanes, and Model A340-212, -213, -312, and -313 airplanes. AD 2018-12-08 required repetitive inspections of certain fastener holes, and related investigative and corrective actions if necessary. This new AD corrects certain compliance time references. This AD was prompted by a report of cracking at fastener holes located at a certain frame (FR) on the lower shell panel junction. We are issuing this AD to address the unsafe condition on these products.

DATES: This AD is effective September 25, 2018.

The Director of the Federal Register approved the incorporation by reference of certain publications listed in this AD as of August 22, 2018 (83 FR 33821, July 18, 2018).

We must receive comments on this AD by October 25, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

For service information identified in this final rule, contact Airbus SAS, Airworthiness Office—EAL, Rond-Point Emile Dewoitine No: 2, 31700 Blagnac Cedex, France; telephone: +33 5 61 93 36 96; fax: +33 5 61 93 45 80; email: airworthiness.A330-A340@airbus.com; internet: http://www.airbus.com. You may view this referenced service information at the FAA, Transport Standards Branch, 2200 South 216th St., Des Moines, WA. For information on the availability of this material at the FAA, call 206-231-3195. It is also available on the internet at http://www.regulations.gov by searching for and locating Docket No. FAA-2018-0789.

Examining the AD Docket

You may examine the AD docket on the internet at http://www.regulations.gov by searching for and locating Docket No. FAA-2018-0789; or in person at the Docket Management Facility between 9 a.m. and 5 p.m., Monday through Friday, except Federal holidays. The AD docket contains this AD, the regulatory evaluation, any comments received, and other information. The street address for Docket Operations (telephone 800-647-5527) is listed above. Comments will be available in the AD docket shortly after receipt.

FOR FURTHER INFORMATION CONTACT: Vladimir Ulyanov, Aerospace Engineer, International Section, Transport Standards Branch, FAA, 2200 South 216th St., Des Moines, WA 98198; telephone and fax: 206-231-3229.

SUPPLEMENTARY INFORMATION:

Discussion

We issued AD 2018-12-08, Amendment 39-19312 (83 FR 33821, July 18, 2018) (“AD 2018-12-08”), which applied to certain Airbus SAS Model A330-200 and -300 series airplanes, and Model A340-212, -213, -312, and -313 airplanes. AD 2018-12-08 was prompted by a report of cracking at fastener holes located at FR40 on the lower shell panel junction. AD 2018-12-08 required repetitive inspections of certain fastener holes, and related investigative and corrective actions if necessary. We issued AD 2018-12-08 to address cracking at FR40 on the lower shell panel junction; such cracking could lead to reduced structural integrity of the fuselage.

Since we issued AD 2018-12-08, we have determined that it is necessary to correct certain service bulletin table references, which provide the compliance times for the initial inspection. Table 1 to paragraph (g)(1) of AD 2018-12-08 pointed to “table 1” of the service information for the initial compliance time. However, table 2 and table 3 in the service bulletins also apply to certain airplanes (those in Configuration 1). All airplanes belonging to affected U.S. operators are in Configuration 2 or Configuration 3, which use only table 1 in the service bulletins. This AD corrects the service bulletin table references for the compliance times. We have changed table 1 to paragraph (g)(1) of this AD by removing the limitation to “table 1” of the service bulletins, and instead referring to the compliance times in “paragraph 1.E., `Compliance,' ” of the service bulletins.

The European Aviation Safety Agency (EASA), which is the Technical Agent for the Member States of the European Union, has issued EASA AD 2017-0063, dated April 12, 2017 (referred to after this as the Mandatory Continuing Airworthiness Information, or “the MCAI”), to correct an unsafe condition for certain Airbus SAS Model A330-200, A330-300, and A340-200 series airplanes, and Model A340-312 and -313 airplanes. The MCAI states:

During full scale fatigue test of the Frame (FR) 40 to fuselage skin panel junction, fatigue damage was found. Corrective actions consisted of in-service installation of an internal reinforcing strap on the related junction, as currently required by DGAC [Direction Générale de l'Aviation Civile] France AD 1999-448-126(B), which refers to Airbus Service Bulletin (SB) A340-53-4104 Revision 02, and [DGAC] AD 2001-070(B), which refers to Airbus SB A330-53-3093 Revision 04; retrofit improvement of internal reinforcing strap fatigue life through recommended Airbus SB A330-53-3145; and introducing a design improvement in production through Airbus mod 44360.

After those actions were implemented, cracks were found on both left-hand (LH) and right-hand (RH) sides on internal strap, butt strap, keel beam fitting, or forward fitting FR40 flange. These findings were made during embodiment of a FR40 web repair on an A330 aeroplane, and during keel beam replacement on an A340 aeroplane, where the internal strap was removed and a special detailed inspection (SDI) was performed on several holes.

This condition, if not detected and corrected, could affect the structural integrity of the centre fuselage of the aeroplane.

Prompted by these findings, Airbus issued SB A330-53-3215 and SB A340-53-4215, providing inspection instructions. Consequently, EASA issued AD 2014-0136 [which corresponds to FAA AD 2017-07-07, Amendment 39-18845 (82 FR 18547, April 20, 2017) (“AD 2017-07-07”)] to require repetitive SDI (rototest) of 10 fastener holes located at the FR40 lower shell panel junction on both LH and RH sides and, depending on findings, accomplishment of applicable corrective action(s).

Since that [EASA] AD was issued, prompted by the results of complementary fatigue analyses, it was determined that postmod 55792 aeroplanes could be also affected by crack initiation and propagation at this area of the fuselage. These analyses demonstrated that post-mod 55792 aeroplanes must follow the same maintenance program as aeroplanes in postmod 55306 and pre-mod 55792 configuration. Consequently, Airbus published SB A330-53-3215 Revision 02 and SB A340-53-4215 Revision 02 to expand the Effectivity accordingly.

For the reasons described above, this [EASA] AD retains the requirements of EASA AD 2014-0136, which is superseded, which now also apply to aeroplanes in post-mod 55792 configuration [the applicability identifies airplanes in post-mod 44360 configuration].

AD 2017-07-07 included Model A340-211 airplanes in its applicability. Airbus SAS Model A340-211 airplanes are not identified in the applicability of this AD because those airplanes are not affected by the identified unsafe condition. All of those airplanes are in the pre-Airbus SAS modification 44360 configuration. The MCAI also does not include Model A340-211 airplanes in its applicability.

The compliance time ranges between 20,000 flight cycles or 65,400 flight hours and 20,800 flight cycles or 68,300 flight hours, depending on airplane utilization and configuration. The repetitive inspection interval ranges between 14,000 flight cycles or 95,200 flight hours and 24,600 flight cycles or 98,700 flight hours, depending on airplane utilization and configuration.

You may examine the MCAI on the internet at http://www.regulations.gov by searching for and locating Docket No. FAA-2018-0789.

Related Service Information Under 1 CFR Part 51

Airbus SAS has issued Service Bulletin A330-53-3215, Revision 03, dated January 22, 2018; and Service Bulletin A340-53-4215, Revision 02, dated November 23, 2016. This service information describes procedures for repetitive rototest inspections of certain fastener holes, and related investigative and corrective actions if necessary. These documents are distinct since they apply to different airplane models. This service information is reasonably available because the interested parties have access to it through their normal course of business or by the means identified in the ADDRESSES section.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

FAA's Justification and Determination of the Effective Date

This AD corrects an error that affects compliance for non-U.S.-registered airplanes only. Therefore, we find good cause that notice and opportunity for prior public comment are unnecessary. In addition, for the reason stated above, we find that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2018-0789; Product Identifier 2018-NM-120-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 99 airplanes of U.S. registry. This AD adds no new economic burden. The current costs for this AD are repeated for the convenience of affected operators, as follows:

Estimated Costs for Required Actions
Labor cost | Parts cost | Cost per product | Cost on U.S. operators
42 work-hours × $85 per hour = $3,570 | $0 | $3,570 | $353,430

We estimate the following costs to do any necessary repairs that would be required based on the results of the required inspections. We have no way of determining the number of aircraft that might need these repairs:

Estimated Costs of On-Condition Actions
Labor cost | Parts cost | Cost per product
46 work-hours × $85 per hour = $3,910 | $2,358 | $6,268

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2018-12-08, Amendment 39-19312 (83 FR 33821, July 18, 2018), and adding the following new AD:

2018-18-16 Airbus SAS: Amendment 39-19395; Docket No. FAA-2018-0789; Product Identifier 2018-NM-120-AD.

(a) Effective Date

This AD is effective September 25, 2018.

(b) Affected ADs

This AD replaces AD 2018-12-08, Amendment 39-19312 (83 FR 33821, July 18, 2018) (“AD 2018-12-08”).

(c) Applicability

This AD applies to the airplanes, certificated in any category, identified in paragraphs (c)(1) and (c)(2) of this AD, all manufacturer serial numbers on which Airbus SAS Modification 44360 has been embodied in production.

(1) Airbus SAS Model A330-201, -202, -203, -223, -243, -301, -302, -303, -321, -322, -323, -341, -342, and -343 airplanes.

(2) Airbus SAS Model A340-212, -213, -312, and -313 airplanes.

(d) Subject

Air Transport Association (ATA) of America Code 53, Fuselage.

(e) Reason

This AD was prompted by a report of cracking at fastener holes located at frame (FR) 40 on the lower shell panel junction. We are issuing this AD to address this cracking, which could lead to reduced structural integrity of the fuselage.

(f) Compliance

Comply with this AD within the compliance times specified, unless already done.

(g) Retained Compliance Times for Paragraph (h) of This AD, With Corrected Compliance Time Locations

This paragraph restates the requirements of paragraph (g) of AD 2018-12-08, with corrected compliance time locations in table 1 to paragraph (g)(1) of this AD. Accomplish the actions required by paragraph (h) of this AD at the times specified in paragraphs (g)(1) and (g)(2) of this AD, as applicable.

(1) For airplanes having serial numbers 0176 through 0915 inclusive: Within the compliance times defined in table 1 to paragraph (g)(1) of this AD, and thereafter at intervals not to exceed the compliance times defined in Airbus Service Bulletin A330-53-3215, Revision 03, dated January 22, 2018 (“SB A330-53-3215R3”); or Airbus Service Bulletin A340-53-4215, Revision 02, dated November 23, 2016 (“SB A340-53-4215R2”); as applicable, depending on airplane utilization and configuration. As of August 22, 2108 (the effective date of AD 2018-12-08), where paragraph 1.E., “Compliance,” of SB A330-53-3215R3, specifies weight variant (WV) 050 in the condition column of table 1, configuration 003, for the purposes of this AD, WV060 and WV080 are also included.

(2) For all airplanes except those identified in paragraph (g)(1) of this AD: Before exceeding the applicable compliance time “threshold” defined in paragraph 1.E., “Compliance,” of SB A330-53-3215R3 or SB A340-53-4215R2, as applicable, depending on airplane utilization and configuration and to be counted from airplane first flight, and, thereafter, at intervals not to exceed the compliance times specified in paragraph 1.E., “Compliance,” of SB A330-53-3215R3 or SB A340-53-4215R2, as applicable, depending on airplane utilization and configuration. Where paragraph 1.E., “Compliance,” of SB A330-53-3215R3 specifies weight variant WV050 in the condition column of table 1, configuration 003, for the purposes of this AD, WV060 and WV080 are also included.

(h) Retained Repetitive Inspections and Related Investigative and Corrective Actions, With No Changes

This paragraph restates the requirements of paragraph (h) of AD 2018-12-08, with no changes. At the applicable compliance time specified in paragraph (g) of this AD: Accomplish a special detailed inspection of the 10 fastener holes located at FR40 on the lower shell panel junction on both left-hand and right-hand sides, in accordance with the Accomplishment Instructions of SB A330-53-3215R3 or SB A340-53-4215R2, as applicable.

(1) If, during any inspection required by the introductory text of paragraph (h) of this AD, any crack is detected, before further flight, accomplish all applicable related investigative and corrective actions, in accordance with the Accomplishment Instructions of SB A330-53-3215R3 or SB A340-53-4215R2, as applicable; except, where SB A330-53-3215R3 or SB A340-53-4215R2 specifies to contact Airbus SAS for repair instructions, and specifies that action as “RC” (required for compliance), this AD requires repair before further flight using a method approved by the Manager, International Section, Transport Standards Branch, FAA; or European Aviation Safety Agency (EASA); or Airbus SAS's EASA Design Organization Approval (DOA). If approved by the DOA, the approval must include the DOA-authorized signature.

(2) If, during any inspection required by the introductory text of paragraph (h) of this AD, the diameter of a fastener hole is found to be outside the tolerances of the transition fit as specified in SB A330-53-3215R3 or SB A340-53-4215R2, as applicable, and SB A330-53-3215R3 or SB A340-53-4215R2 specifies to contact Airbus SAS for repair instructions, and specifies that action as RC, before further flight, repair using a method approved by the Manager, International Section, Transport Standards Branch, FAA; or EASA; or Airbus SAS's EASA DOA. If approved by the DOA, the approval must include the DOA-authorized signature.

(3) Accomplishment of corrective actions, as required by paragraph (h)(1) of this AD, does not constitute terminating action for the repetitive inspections required by the introductory text of paragraph (h) of this AD.

(4) Accomplishment of a repair on an airplane, as required by paragraph (h)(2) of this AD, does not constitute terminating action for the repetitive inspections required by the introductory text of paragraph (h) of this AD for that airplane, unless indicated otherwise as specified in the method approved by the Manager, International Section, Transport Standards Branch, FAA; or EASA; or Airbus SAS's EASA DOA.

(i) Retained Reporting Provision, With No Changes

This paragraph restates the provisions of paragraph (i) of AD 2018-12-08, with no changes. Although SB A330-53-3215R3 and SB A340-53-4215R2 specify to submit certain information to the manufacturer, and specify that action as RC, this AD does not include that requirement.

(j) Retained Credit for Previous Actions, With Revised Formatting

This paragraph restates the provisions of paragraph (j) of AD 2018-12-08, with a reformatted service bulletin listing. This paragraph provides credit for the inspections required by the introductory text of paragraph (h) of this AD and the related investigative and corrective actions specified by paragraph (h)(1) of this AD, if those actions were performed before May 25, 2017 (the effective date of AD 2017-07-07), using the applicable service information specified in paragraphs (j)(1) through (j)(5) of this AD.

(1) Airbus Service Bulletin A330-53-3215, dated June 21, 2013.

(2) Airbus Service Bulletin A330-53-3215, Revision 01, dated April 17, 2014.

(3) Airbus Service Bulletin A330-53-3215, Revision 02, dated November 23, 2016.

(4) Airbus Service Bulletin A340-53-4215, dated June 21, 2013.

(5) Airbus Service Bulletin A340-53-4215, Revision 01, dated April 17, 2014.

(k) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (l)(2) of this AD. Information may be emailed to 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or EASA; or Airbus SAS's EASA DOA. If approved by the DOA, the approval must include the DOA-authorized signature.

(3) Required for Compliance (RC): Except as specified by paragraphs (g)(1), (g)(2), (h)(1), (h)(2), and (i) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Related Information

(1) Refer to Mandatory Continuing Airworthiness Information (MCAI) EASA AD 2017-0063, dated April 12, 2017, for related information. This MCAI may be found in the AD docket on the internet at http://www.regulations.gov by searching for and locating Docket No. FAA-2018-0789.

(2) For more information about this AD, contact Vladimir Ulyanov, Aerospace Engineer, International Section, Transport Standards Branch, FAA, 2200 South 216th St., Des Moines, WA 98198; telephone and fax: 206-231-3229.

(3) Service information identified in this AD that is not incorporated by reference is available at the addresses specified in paragraphs (m)(4) and (m)(5) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on August 22, 2018.

(i) Airbus Service Bulletin A330-53-3215, Revision 03, dated January 22, 2018.

(ii) Airbus Service Bulletin A340-53-4215, Revision 02, dated November 23, 2016.

(4) For service information identified in this AD, contact Airbus SAS, Airworthiness Office—EAL, Rond-Point Emile Dewoitine No: 2, 31700 Blagnac Cedex, France; telephone: +33 5 61 93 36 96; fax: +33 5 61 93 45 80; email: airworthiness.A330-A340@airbus.com; internet: http://www.airbus.com.

(5) You may view this service information at the FAA, Transport Standards Branch, 2200 South 216th St., Des Moines, WA. For information on the availability of this material at the FAA, call 206-231-3195.

(6) You may view this service information that is incorporated by reference at the National Archives and Records Administration (NARA). For information on the availability of this material at NARA, call 202-741-6030, or go to: http://www.archives.gov/federal-register/cfr/ibr-locations.html.

Issued in Des Moines, Washington, on August 29, 2018.
Jeffrey E. Duven,
Director, System Oversight Division, Aircraft Certification Service.

[FR Doc. 2018-19437 Filed 9-7-18; 8:45 am]

BILLING CODE 4910-13-P